DEPARTMENT OF DEFENSE

Department of the Air Force

[Docket ID: USAF-2014-0020]

Privacy Act of 1974; System of Records

AGENCY: Department of the Air Force, DoD.

ACTION: Notice to delete twenty-one Systems of Records.

SUMMARY: The Department of the Air Force is deleting twenty-one systems of records notices in its existing inventory of record systems subject to the Privacy Act of 1974 (5 U.S.C. 552a), as amended.

DATES: Comments will be accepted on or before July 11, 2014. This proposed action will be effective the date following the end of the comment period unless comments are received which result in a contrary determination.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, ATTN: SAF/CIO A6, 1800 Air Force Pentagon, Washington, DC 20330-1800, or by phone at (571) 256-2515.

SUPPLEMENTARY INFORMATION: The Department of the Air Force systems of records notices subject to the Privacy Act of 1974 (5 U.S.C. 552a), as amended, have been published in the Federal Register and are available from the address in FOR FURTHER INFORMATION CONTACT.

The Department of the Air Force proposes to delete twenty-one systems of records notice from its inventory of record systems subject to the Privacy Act of 1974 (5 U.S.C. 552a), as amended. The proposed deletion is not within the purview of subsection (r) of the Privacy Act of 1974 (5 U.S.C. 552a), as amended, which requires the submission of a new or altered system report.

Dated: June 6, 2014.
Aaron Siegel,
Alternate OSD Federal Register Liaison Officer, Department of Defense.

Deletion:

F033 AFRE A

System name:

Inquires (Presidential/Congressional) (June 11, 1997, 62 FR 31793)

Reason:

This is a duplicate system of records; active records are covered under SORN F033 AF PC A, Congressional and Other High Level Inquiries (January 19, 2011, 76 FR 3113) or F033 SAFLL A, Congressional/Executive Inquiries (November 10, 2005, 70 FR 68408).

Duplicate paper copies were destroyed by shredding. Electronic copies were deleted. Therefore, SORN F033 AFRE A, Inquires (Presidential/Congressional) (June 11, 1997, 62 FR 31793) can be deleted.

Deletion:

F036 AFRE A

System name:

Statutory Tour Program (Sept 1, 1999, 64 FR 47776)

Reason:

This is a duplicate system of records; active records are covered under SORN F036 AF PC O, General Officer Personnel Data System (January 22, 2009, 74 FR 4017).

Duplicate paper copies were destroyed by shredding. Electronic copies were deleted. Therefore, SORN F036 AFRE A, Statutory Tour Program (Sept 1, 1999, 64 FR 47776) can be deleted.

Deletion:

F036 AFRE B

System name:

Personnel Files on Statutory Tour Officers (July 19, 1999, 64 FR 38659)

Reason:

This is a duplicate system of records; active records are covered under SORN F036 AF PC O, General Officer Personnel Data System (January 22, 2009, 74 FR 4017).

Duplicate paper copies were destroyed by shredding. Electronic copies were deleted. Therefore, SORN F036 AFRE B, Personnel Files on Statutory Tour Officers (July 19, 1999, 64 FR 38659) can be deleted.

Deletion:

F036 AFRE C

System name:

Files on Reserve General Officers; Colonels Assigned to General Officer Positions (July 19, 1999, 64 FR 38659)

Reason:

This is a duplicate system of records; active records are covered under SORN F036 AF PC O, General Officer Personnel Data System (January 22, 2009, 74 FR 4017).

Duplicate paper copies were destroyed by shredding. Electronic copies were deleted. Therefore, SORN F036 AFRE C, Files on Reserve General Officers; Colonels Assigned to General Officer Positions (July 19, 1999, 64 FR 38659) can be deleted.

Deletion:

F036 AFRES A

System name:

Personnel Interview Record (June 11, 1997, 62 FR 31793)

Reason:

This is a duplicate system of records; active records are covered under SORN F036 AF PC C, Military Personnel Records System (October 13, 2000, 65 FR 60916).

Duplicate paper copies at AFRES were destroyed by shredding. Electronic copies were deleted. Therefore, SORN F036 AFRES A, Personnel Interview Record (June 11, 1997, 62 FR 31793) can be deleted.

Deletion:

F036 AFRES B

System name:

Recruiters Automated Management System (RAMS) (June 11, 1997, 62 FR 31793)

Reason:

This is a duplicate system of records; active records are covered under SORN F036 AFRC B, Air Force Recruiting Information Support System-Reserve Records (June 16, 2009, 74 FR 28486).

The Recruiters Automated Management System (RAMS) was deactivated and converted to F036 AFRC B, Old electronic copies were deleted. Therefore, SORN F036 AFRES B, Recruiters Automated Management System (RAMS) (June 11, 1997, 62 FR 31793) can be deleted.

Deletion:

F036 AFRES C

System name:

Air Reserve Technician (ART) Officer Selection Folders (June 11, 1997, 62 FR 31793)

Reason:

This is a duplicate system of records; active records are covered under SORN F036 AF PC O, General Officer Personnel Data System. (January 22, 2009, 74 FR 4017).

Duplicate paper copies at AFRES were destroyed by shredding. Electronic copies were deleted. Therefore, SORN F036 AFRES C, Air Reserve Technician (ART) Officer Selection Folders (June 11, 1997, 62 FR 31793) can be deleted.

Deletion:

F036 AFRES D

System name:

Reserve Medical Service Corps Officer Appointments (June 11, 1997, 62 FR 31793)

Reason:

This is a duplicate system of records; active records are covered under SORN F044 AF SG K, Medical Professional Staffing Records (November 18, 1997, 62 FR 61495).

Duplicate paper copies at AFRES were destroyed by shredding. Electronic copies were deleted. Therefore, SORN F036 AFRES D, Reserve Medical Service Corps Officer Appointments (June 11, 1997, 62 FR 31793) can be deleted.

Deletion:

F036 AFRES E

System name:

Undergraduate Pilot and Navigator Training (June 11, 1997, 62 FR 31793)

Reason:

This is a duplicate system of records; active records are covered under SORN F036 AETC Y, Training Integration Management System (TIMS) Records (November 12, 2008, 73 FR 66873).

Duplicate paper copies at AFRES were destroyed by shredding. Electronic copies were deleted. Therefore, SORN F036 AFRES E, Undergraduate Pilot and Navigator Training (June 11, 1997, 62 FR 31793) can be deleted.

Deletion:

F036 ARPC A

System name:

Administrative Discharge for Cause on Reserve Personnel (June 11, 1997, 62 FR 31793)

Reason:

This is a duplicate system of records; active records are covered under SORN F036 AFPC P, Separation Case Files (Officer and Airman) (January 31, 2014, 79 FR 5386).

Duplicate paper copies at ARPC were destroyed by shredding. Electronic copies were deleted. Therefore, SORN F036 ARPC A, Administrative Discharge for Cause on Reserve Personnel (June 11, 1997, 62 FR 31793) can be deleted.

Deletion:

F036 ARPC B

System name:

Informational Personnel Management Records (June 11, 1997, 62 FR 31793)

Reason:

This is a duplicate system of records; active records are covered under SORN F036 AF PC C, Military Personnel Records System (October 13, 2000, 65 FR 60916).

Duplicate paper copies at ARPC were destroyed by shredding. Electronic copies were deleted. Therefore, SORN F036 ARPC B Informational Personnel Management Records (June 11, 1997, 62 FR 31793) can be deleted.

Deletion:

F036 ARPC C

System name:

Correction of Military Records of Officers and Airmen (June 11, 1997, 62 FR 31793)

Reason:

This is a duplicate system of records; active records are covered under SORN F036 SAFCB A, Air Force Correction Board Records (November 12, 2008, 73 FR 66870).

Duplicate paper copies at ARPC were destroyed by shredding. Electronic copies were deleted. Therefore, SORN F036 ARPC C, Correction of Military Records of Officers and Airmen (June 11, 1997, 62 FR 31793) can be deleted.

Deletion:

F036 ARPC D

System name:

Data Change/Suspense Notification (June 11, 1997, 62 FR 31793)

Reason:

This is a duplicate system of records; active records are covered under SORN F036 AF PC C, Military Personnel Records System (October 13, 2000, 65 FR 60916).

Duplicate paper copies at ARPC were destroyed by shredding. Electronic copies were deleted. Therefore, SORN F036 ARPC D, Data Change/Suspense Notification (June 11, 1997, 62 FR 31793) can be deleted.

Deletion:

F036 ARPC E

System name:

Flying Status Actions (June 11, 1997, 62 FR 31793)

Reason:

This is a duplicate system of records; active records are covered under SORN F036 AETC S, Flying Training Records (July 2, 2009, 74 FR 31718).

Duplicate paper copies at ARPC were destroyed by shredding. Electronic copies were deleted. Therefore, SORN F036 ARPC E, Flying Status Actions (June 11, 1997, 62 FR 31793) can be deleted.

Deletion:

F036 ARPC F

System name:

Officer Promotions (June 11, 1997, 62 FR 31793)

Reason:

This is a duplicate system of records; active records are covered under SORN F036 AFPC S, Officer Promotion Propriety Actions (April 9, 2014, 79 FR 19590).

Duplicate paper copies at ARPC were destroyed by shredding. Electronic copies were deleted. Therefore, SORN F036 ARPC F, Officer Promotions (June 11, 1997, 62 FR 31793) can be deleted.

Deletion:

F036 ARPC G

System name:

Requests for Discharge from the Air Force Reserve (June 11, 1997, 62 FR 31793)

Reason:

This is a duplicate system of records; active records are covered under SORN F036 AFPC P, Separation Case Files (Officer and Airman) (January 31, 2014, 79 FR 5386).

Duplicate paper copies at ARPC were destroyed by shredding. Electronic copies were deleted. Therefore, SORN F036 ARPC G, Requests for Discharge from the Air Force Reserve (June 11, 1997, 62 FR 31793) can be deleted.

Deletion:

F036 ARPC H

System name:

Applications for Identification (ID) Cards (June 11, 1997, 62 FR 31793)

Reason:

This is a duplicate system of records; active records are covered under DMDC 02 DoD, Defense Enrollment Eligibility Reporting System (DEERS) (November 21, 2012, 77 FR 69807).

Duplicate paper copies at ARPC were destroyed by shredding. Electronic copies were deleted. Therefore, SORN F036 ARPC H, Applications for Identification (ID) Cards (June 11, 1997, 62 FR 31793) can be deleted.

Deletion:

F036 ARPC J

System name:

Air Force Reserve Application (June 11, 1997, 62 FR 31793)

Reason:

This is a duplicate system of records; active records are covered under SORN F036 AFPC H, Applications for Appointment and Extended Active Duty Files (June 25, 2013, 78 FR 38016).

Duplicate paper copies at ARPC were destroyed by shredding. Electronic copies were deleted. Therefore, SORN F036 ARPC J, Air Force Reserve Application (June 11, 1997, 62 FR 31793) can be deleted.

Deletion:

F036 ARPC K

System name:

Inactive Duty Training, Extension Course Institute (ECI) Training (June 11, 1997, 62 FR 31793)

Reason:

This is a duplicate system of records; active records are covered under SORN F036 AETC M, Air University Academic Records (February 27, 2007, 72 FR 8700).

Duplicate paper copies at ARPC were destroyed by shredding. Electronic copies were deleted. Therefore, SORN F036 ARPC K, Inactive Duty Training, Extension Course Institute (ECI) Training (June 11, 1997, 62 FR 31793) can be deleted.

Deletion:

F036 ARPC L

System name:

Professional Military Education (PME) (June 11, 1997, 62 FR 31793)

Reason:

This is a duplicate system of records; active records are covered under SORN F036 AETC W, Air Force Institute of Technology Student Information System (AFITSIS) Records (January 4, 2010, 75 FR 136).

Duplicate paper copies at ARPC were destroyed by shredding. Electronic copies were deleted. Therefore, SORN F036 ARPC L, Professional Military Education (PME) (June 11, 1997, 62 FR 31793) can be deleted.

Deletion:

F044 ARPC A

System name:

Physical Examination Reports Suspense File (June 11, 1997, 62 FR 31793)

Reason:

This is a duplicate system of records; active records are covered under SORN F048 AFRC A, Reserve Component Periodic Health Assessment (RCPHA) Records (December 30, 2008, 73 FR 79835).

Duplicate paper copies at ARPC were destroyed by shredding. Electronic copies were deleted. Therefore, SORN F044 ARPC A, Physical Examination Reports Suspense File (June 11, 1997, 62 FR 31793) can be deleted.

[FR Doc. 2014-13579 Filed 6-10-14; 8:45 am]

BILLING CODE 5001-06-P